DEPARTMENT OF HOMELAND SECURITY

Coast Guard

33 CFR Part 165

[Docket No. USCG-2024-0660]

Safety Zones; Recurring Safety Zones in Captain of the Port Northern Great Lakes Zone

AGENCY: Coast Guard, DHS.

ACTION: Notification of enforcement of regulation.

SUMMARY: The Coast Guard will enforce various safety zones in August 2024 for marine events taking place in Captain of the Port Northern Great Lakes. Enforcement of these safety zones is necessary to protect the safety of life and property on the navigable waters immediately prior to, during, and immediately after events. During the period, the Coast Guard will enforce restrictions upon, and control movement of, vessels in a specified area immediately prior to, during, and immediately after events. During each enforcement period, vessels must stay out of the established safety zone and may only enter with permission from the Captain of the Port Northern Great Lakes or a designated representative.

DATES: The regulations listed in 33 CFR 165.918 will be enforced for the safety zones identified in the SUPPLEMENTARY INFORMATION section for the dates and times specified.

FOR FURTHER INFORMATION CONTACT: If you have questions about this publication, call or email Waterways Management division, LT Rebecca Simpson, Coast Guard Sector Northern Great Lakes, U.S. Coast Guard; telephone 906-635-3223, email ssmprevention@uscg.mil.

SUPPLEMENTARY INFORMATION: The Coast Guard will enforce the safety zones in 33 CFR 165.918 as per the time, dates, and locations indicated below:

(1) Elk Rapids Harbor Days Fireworks (Elk Rapids, MI; East Arm Grand Traverse Bay, Lake Michigan) from 10:00 p.m. through 10:30 p.m. on August 3, 2024.

(2) Nautical City Fireworks (Rogers City, MI; Lake Huron) from 10:00 p.m. through 10:30 p.m. on August 4, 2024. This notice also includes an alternative rain date from 10:00 p.m. through 10:30 p.m. on August 11, 2024.

This notice of enforcement is issued under authority of 33 CFR 165.918 and 5 U.S.C. 552 (a). In addition to this notice of enforcement in the Federal Register, the Coast Guard will provide the maritime community with advance notification of this enforcement period via Broadcast Notice to Mariners or Local Notice to Mariners. If the Captain of the Port Northern Great Lakes determines that the safety zone need not be enforced for the full duration stated in this notice, he or she may suspend such enforcement and notify the public of the suspension via Broadcast Notice to Mariners and grant general permission to enter the respective safety zone.

Dated: July 30, 2024.
J.R. Bendle,
Captain, U.S. Coast Guard, Captain of the Port Northern Great Lakes.

[FR Doc. 2024-17158 Filed 8-2-24; 8:45 am]

BILLING CODE 9110-04-P